DEPARTMENT OF ENERGY

Federal Energy Regulatory Commission

[Docket No. CP02-37-000]

Williston Basin Interstate Pipeline Company; Notice of Application

December 7, 2001.

Take notice that on November 30, 2001, Williston Basin Interstate Pipeline Company (Williston Basin), 1250 West Century Avenue, Bismarck, North Dakota 58530, filed pursuant to sections 7(c) and 7(b) of the Natural Gas Act and the Commission's Regulations thereunder, an Abbreviated Application for a Certificate of Public and Necessity to construct and operate the Grasslands Pipeline Project, and for authority to abandon certain facilities, all as more fully set forth in the application which is on file with the Commission and open to public inspection. This filing may also be viewed on the web at http://www.ferc.gov using the “RIMS” link, select “Docket#” and follow the instructions (call 202-208-2222 for assistance).

Specifically, Williston Basin proposes to:

• Construct and operate approximately 219 miles of new 16-inch natural gas pipeline from Belle Creek, Montana to Dunn County, North Dakota and 28 miles of 16-inch looping along an existing 8-inch pipeline in Campbell County, Wyoming;

• Construct and operate three new 4,180 Horsepower compressor stations in Campbell County, Wyoming, Fallon County, Montana and Dunn County, North Dakota;

• Construct and operate one mile of 16-inch pipeline, and associated facilities, to interconnect with the facilities of Northern Border Pipeline Company in Dunn County, North Dakota;

• Construct and operate 0.9 miles of 12-inch lateral line in Fallon County, Montana;

• Construct and operate various metering and regulating facilities in Campbell County, Wyoming, Dunn County, North Dakota, and Fallon County, Montana;

• Uprate 40 miles of existing 8-inch supply line in Campbell County, Wyoming to a maximum allowable operating pressure of 1,440 psig, and to abandon and replace nine-existing underground road crossings as part of the uprating effort; and

• To construct and operate certain permanent and temporary miscellaneous facilities such as pig launcher/receiver sites, cathodic protection units, pipe yards, access roads and staging areas.

Williston Basin states that the proposed project will accomplish three objectives. Specifically, the project will provide: (1) An outlet for coal bed natural gas production in the Powder River Basin along with other conventional gas sources in Wyoming and Montana; (2) access to Williston Basin's storage facilities to shippers of gas produced in Powder River Basin; and (3) access from Williston Basin's storage facilities to the facilities of Northern Border Pipeline Company.

Williston Basin proposes an in-service date of November 1, 2002 and asks that the Commission authorize its proposal by August 21, 2002.

Any questions regarding the amendment should be directed to Keith A. Tiggelaar, Director, Regulatory Affairs, Williston Basin Interstate Pipeline Company, PO Box 5601, Bismarck, ND, 58506-5601, (701) 530-1560.

There are two ways to become involved in the Commission's review of this project. First, any person wishing to obtain legal status by becoming a party to the proceedings for this project should, on or before December 28, 2001, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 01-30799 Filed 12-12-01; 8:45 am]

BILLING CODE 6717-01-P